DEPARTMENT OF COMMERCE

National Oceanic and Atmospheric Administration

50 CFR Part 679

[Docket No. 021212307-3037-02; I.D. 032803E]

Fisheries of the Exclusive Economic Zone Off Alaska; Atka Mackerel and Pacific Cod With Trawl Gear in the Bering Sea and Aleutian Islands

AGENCY: National Marine Fisheries Service (NMFS), National Oceanic and Atmospheric Administration (NOAA), Commerce.

ACTION: Closures and openings.

SUMMARY: NMFS announces opening and closing dates of the first and second directed fisheries for Atka mackerel within the harvest limit area (HLA) in Statistical Areas 542 and 543. These actions are necessary to fully use the 2003 HLA limits established for the Central (area 542) and Western (area 543) Aleutian Districts pursuant to the 2003 Atka mackerel total allowable catch (TAC). NMFS also prohibits directed fishing for Pacific cod by vessels using trawl gear in the HLA.

DATES: Prohibition of directed fishing for Pacific cod with trawl gear in area 542 HLA and area 543 HLA: Effective 1200 hrs, Alaska local time (A.l.t.), April 8, 2003, until 1200 hrs, A.l.t., April 11, 2003. The first directed fisheries for Atka mackerel in the HLA in area 542 and area 543 open: Effective 1200 hrs, A.l.t., April 8, 2003, until 1200 hrs, A.l.t., April 9, 2003. The second directed fisheries for Atka mackerel in the HLA in area 542 and area 543 open: effective 1200 hrs, A.l.t., April 10, 2003, until 1200 hrs, A.l.t., April 11, 2003.

FOR FURTHER INFORMATION CONTACT: Andrew Smoker, 907-586-7228.

SUPPLEMENTARY INFORMATION: NMFS manages the groundfish fishery in the BSAI exclusive economic zone according to the Fishery Management Plan for the Groundfish Fishery of the Bering Sea and Aleutian Islands Area (FMP) prepared by the North Pacific Fishery Management Council under authority of the Magnuson-Stevens Fishery Conservation and Management Act. Regulations governing fishing by U.S. vessels in accordance with the FMP appear at subpart H of 50 CFR part 600 and 50 CFR part 679.

In accordance with § 679.20(a)(8)(iii), vessels using trawl gear for directed fishing for Atka mackerel have previously registered with NMFS to fish in the HLA fisheries in areas 542 and/or 543. NMFS has randomly assigned each vessel to the directed fishery or fisheries for which they have registered. NMFS has notified each vessel owner as to which fishery each vessel has been assigned by NMFS (68 FR 2922, January 22, 2003).

In accordance with § 679.20(a)(8)(ii)(C)(1), the HLA portion of the Atka mackerel TAC in areas 542 and 543 are 8,147 mt and 5,547 mt, respectively (68 FR 9907, March 3, 2003). The HLA directed fisheries for Atka mackerel were previously opened and closed (68 FR 2920, January 22, 2003) based on the HLA apportionments of the interim specifications of groundfish (67 FR 78739, December 26, 2002). NMFS has determined that as of March 25, 2003, the remaining amounts of the Atka mackerel HLA limits are 2,496 mt in the 542 HLA limit and 1,894 mt in the 543 HLA limit.

In order to fully utilize the 2003 HLA limit for areas 542 and 543 and pursuant to § 679.20(a)(8)(iii)(C), NMFS is reopening the first and second directed fisheries for Atka mackerel for the dates and times listed under the DATES section of this notice.

In accordance with § 679.20(a)(8)(iii)(D) and based on the amounts of the HLA limits currently available and the proportion of the number of vessels in each fishery compared to the total number of vessels participating in the HLA directed fishery for area 542 or 543, the harvest limits for each HLA directed fishery in areas 542 and 543 are: 1,248 mt for the first directed fishery in area 542, 947 mt for the first directed fishery in area 543, 1,248 mt for the second directed fishery in area 542, and 947 mt for the second directed fishery in area 543.

In accordance with § 679.20(a)(8)(iii)(E), the Administrator, Alaska Region, NMFS, has established the closure dates of the Atka mackerel directed fisheries in the HLA for areas 542 and 543 based on the amount of the harvest limit and the estimated fishing capacity of the vessels assigned to the respective fisheries. Consequently, NMFS is prohibiting directed fishing for Atka mackerel in the HLA of areas 542 and 543 in accordance with the dates and times listed under the DATES section of this notice.

In accordance with § 679.22(a)(8)(iv)(A), directed fishing for Pacific cod by vessels named on a Federal Fisheries Permit under § 679.4(b) and using trawl gear is prohibited in the HLA in area 542 or area 543, as defined in § 679.2, when the Atka mackerel HLA directed fishery in area 542 or area 543 is open. Consequently, NMFS is prohibiting directed fishing for Pacific cod in the HLA in area 542 and area 543 as defined in accordance with the dates and times listed under the DATES section of this notice.

Classification

This action responds to the best available information recently obtained from the fishery. The Assistant Administrator for Fisheries, NOAA, finds good cause to waive the requirement to provide prior notice and opportunity for public comment pursuant to the authority set forth at 5 U.S.C. 553(b)(B) as such requirement is contrary to the public interest. This requirement is contrary to the public interest as it would delay the closure of the fisheries, lead to exceeding the HLA limits, and therefore reduce the public's ability to use and enjoy the fishery resource.

The AA also finds good cause to waive the 30-day delay in the effective date of this action under 5 U.S.C. 553(d)(3). This finding is based upon the reasons provided above for waiver of prior notice and opportunity for public comment.

This action is required by § 679.20 and is exempt from review under Executive Order 12866.

Authority: 16 U.S.C. 1801 et seq.

Dated: April 2, 2003.
Richard W. Surdi,
Acting Director, Office of Sustainable Fisheries, National Marine Fisheries Service.

[FR Doc. 03-8543 Filed 4-3-03; 2:21 pm]

BILLING CODE 3510-22-S